DEPARTMENT OF THE INTERIOR

National Park Service

[NPS-WASO-NRNHL-DTS#-36681; PPWOCRADI0, PCU00RP14.R50000]

National Register of Historic Places; Notification of Pending Nominations and Related Actions

AGENCY: National Park Service, Interior.

ACTION: Notice.

SUMMARY: The National Park Service is soliciting electronic comments on the significance of properties nominated before September 23, 2023, for listing or related actions in the National Register of Historic Places.

DATES: Comments should be submitted electronically by October 23, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 23, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

Los Angeles County

Watts Happening Cultural Center, 1827 E 103rd St., Los Angeles, SG100009466

Riverside County

Evergreen Cemetery, 4414 Fourteenth St., Riverside, SG100009467

San Bernardino County

City Transfer and Storage Company Warehouse, 440 Oriental Ave., Redlands, SG100009474

Tuolumne County

Sierra Railway Locomotive No. 3, 10501 Reservoir Rd., Jamestown, SG100009468

DELAWARE

Sussex County

Prospect A.M.E. Church, 220 South Railroad Ave., Georgetown, SG100009498

DISTRICT OF COLUMBIA

District of Columbia

Eastern High School, (Public School Buildings of Washington, DC MPS), 1730 East Capitol Street NE, Washington, MP100009489

IOWA

Dallas County

Redfield GAR Hall, 1213 Thomas St., Redfield, SG100009484

Henry County

West Main Street Residential Historic District, 301-407 and 302-402 W Main St., Wayland, SG100009485

Louisa County

Fairview Church and Cemetery, 11501 Co Rd H22, Wapello vicinity, SG100009486

Muscatine County

Nichols, Benjamin F. and Susan M. (Jenkins), House, 815 Ijem Avenue, Nichols, SG100009487

Fairport Biological Station Historic District, 3390 Highway 22, Fairport vicinity, SG100009488

MINNESOTA

Cass County

United States Forest Service, Remer District Ranger Station, (Federal Relief Construction in Minnesota, 1933-1943 MPS (AD)), 307 Main Street East, Remer, MP100009469

Hackensack Conservation Building, (Federal Relief Construction in Minnesota, 1933-1943 MPS (AD)), 101 Fleischer Ave., Hackensack, MP100009470

St. Louis County

Finnish Apostolic Lutheran Church of Embarrass, 5103 Highway 21, Embarass, SG100009477

NEW MEXICO

Bernalillo County

La Luz del Oeste, Loop One NW, Albuquerque, SG100009493

Medical Arts Historic District, (Central Albuquerque MPS), 711, 717, and 801 Encino Place NE and 1010 Las Lomas Boulevard NE, Albuquerque, MP100009505

OHIO

Clark County

Springfield Country Club, 2315 Signal Hill Rd., Springfield, SG100009480

Franklin County

Eastgate Apartments Historic District, 455-461 (odd) N Nelson Rd., 492-508 (even) Sunbury Rd., 1864-2112 (even) Maryland Ave, Columbus, SG100009503

OREGON

Lane County

Springfield High School, 525 Mill Street, Springfield, SG100009475

SOUTH DAKOTA

Jerauld County

Zion Emmanuel Lutheran Church, 320 Oak Ave., Lane, SG100009483

TENNESSEE

Williamson County

Harlinsdale Farm (Boundary Increase), (Historic Family Farms in Middle Tennessee MPS), 315 Franklin Rd., Franklin, BC100009500

TEXAS

Dallas County

Bryan Tower, 2001 Bryan St., Dallas, SG100009495

Hunt County

Greenville Masonic Lodge No. 335 A.F. & A.M., 2615 Stonewall St., Greenville, SG100009494

Travis County

Baker School, 3908 Ave. B, Austin, SG100009490

Wichita County

First Wichita National Bank, 719 Scott Ave., Wichita Falls, SG100009496

VIRGINIA

Charlottesville INDEPENDENT CITY

Charlottesville Downtown Mall Historic District, Main Street from Water Street to East 7th Street and pedestrianized sections of 1st Street, East 2nd Street, East 3rd Street, and East 5th Street, Charlottesville, SG100009471

Northumberland County

Julius Rosenwald High School, (Rosenwald Schools in Virginia MPS), 19602 Northumberland Highway, Reedville, MP100009479

Richmond INDEPENDENT CITY

High-Rise for the Elderly, 1202 N 151 Street, Richmond, SG100009501

WISCONSIN

Door County

Sunshine Shipwreck (Scow Schooner), (Great Lakes Shipwreck Sites of Wisconsin MPS), 1.1 miles southeast of the entrance of North Bay, Door County in Lake Michigan, Liberty Grove vicinity, MP100009481

La Crosse County

Christ Evangelical Lutheran Church of Burr Oak, 9113 State Highway 108, Farmington, SG100009482

Portage County

Sisters of St. Joseph Complex, 1300 Maria Drive, Stevens Point, SG100009476

A request for removal has been made for the following resource(s):

MINNESOTA

Wadena County

Peterson-Biddick Seed and Feed Company, 102 SE Aldrich Ave., Wadena, OT88003227

TENNESSEE

Rutherford County

Collier-Lane-Crichlow House, 500 N Spring St., Murfreesboro, OT78002629

Nomination(s) submitted by Federal Preservation Officers:

The State Historic Preservation Officer reviewed the following nomination(s) and responded to the Federal Preservation Officer within 45 days of receipt of the nomination(s) and supports listing the properties in the National Register of Historic Places.

CALIFORNIA

Humboldt County

Falk Archaeological District, Address Restricted, Eureka, SG100009504

DISTRICT OF COLUMBIA

District of Columbia

Benjamin Ogle Tayloe House, 723 Madison Place NW (formerly 21 Madison Place NW), Washington, SG100009491

MINNESOTA

Ramsey County

Mni Owe Sni/Coldwater Spring, Address Restricted, St. Paul vicinity, SG100009497

MINNESOTA

Hennepin County

Mni Owe Sni/Coldwater Spring, Address Restricted, St. Paul vicinity, SG100009497

Authority: Section 60.13 of 36 CFR part 60.

Sherry A. Frear,
Chief, National Register of Historic Places/National Historic Landmarks Program.

[FR Doc. 2023-22229 Filed 10-5-23; 8:45 am]

BILLING CODE 4312-52-P